DEPARTMENT OF JUSTICE

28 CFR Part 16

[AAG/A Order No. 224-2001]

Privacy Act of 1974; Implementation

AGENCY: Department of Justice.

ACTION: Final rule.

SUMMARY: The Department of Justice is exempting a Privacy Act system of records from subsections (c)(3) and (4), (d), (e)(1), (e)(2), (e)(4)(G) and (H), (e)(5), (f), and (g) of the Privacy Act, 552 U.S.C. 552a. This system of records is maintained by the Executive Office for United States Attorneys and the ninety-four United States Attorneys' offices (see Appendix identified as Justice/USA-999, last published February 3, 1993 (58 FR 6983), and posted on the internet website of the Executive Office for United States Attorneys at http://www.usdoj.gov/eousa). The system is entitled, “United States Attorneys' Office, Giglio Information Files, JUSTICE/USA-018.” The “United States Attorneys' Office, Giglio Information Files, JUSTICE/USA-018” enables United States Attorneys' offices to maintain and disclose records of potential impeachment information received from the Department's investigative agencies, in accordance with Giglio v. United States, 405 U.S. 150 (1972). It permits the United States Attorneys' offices to obtain from federal and state agencies and to maintain and disclose for law enforcement purposes records of impeachment information that is material to the defense. The exemptions are necessary as explained in the accompanying rule.

EFFECTIVE DATE: April 4, 2001.

FOR FURTHER INFORMATION CONTACT: Mary Cahill, 202-307-1823.

SUPPLEMENTARY INFORMATION: On December 1, 2000, (65 FR 75201) a proposed rule was published in the Federal Register in an invitation to comment. No comments were received.

This order relates to individuals rather than small business entities. Nevertheless, pursuant to the requirements of the Regulatory Flexibility Act, 5 U.S.C. 601-612, it is hereby stated that the order will not have “a significant economic impact on a substantial number of small entities.”

List of Subjects in 28 CFR Part 16

Administrative Practices and Procedures, Courts, Freedom of Information Act, Government in the Sunshine Act, and the Privacy Act.

Dated: March 29, 2001.
Stephen R. Colgate,
Assistant Attorney General for Administration.

Pursuant to the authority vested in the Attorney General by 5 U.S.C. 552a and delegated to me by Attorney General Order No. 793-78, 28 CFR part 16 is amended as follows:

PART 16—[AMENDED]

1. The authority for part 16 continues to read as follows:

Authority: 5 U.S.C. 301, 552, 552a, 552b(g), 553; 18 U.S.C. 4203(a)(1); 28 U.S.C. 509, 510, 534; 31 U.S.C. 3717, 9701.

2. Section 16.81 is amended by redesignating current paragraph (g) as (i) and adding paragraphs (g) and (h) to read as follows:

§ 16.81 Exemption to the United States Attorneys Systems—limited access.

* * * * *

(g) The Giglio Impeachment Files (JUSTICE/USA-018) system of records is exempt from 5 U.S.C. 552a subsections (c)(4), (e)(2), (e)(5), and (g) of the Privacy Act, pursuant to 5 U.S.C. 552a(j)(2), and exempt from subsections (c)(3), (d), (e)(1), (e)(4)(G) and (H), and (f), pursuant to 5 U.S.C. 552a(j)(2) and (k)(2). These exemptions apply to the extent that information in this system is subject to exemption pursuant to 5 U.S.C. 552a(j)(2) and (k)(2).

(h) Exemptions from the particular subsections are justified for the following reasons:

(1) From subsection (c)(3); because an exemption is being claimed for subsection (d), this subsection will not be applicable.

(2) From subsection (c)(4); because an exemption is being claimed for subsection (d), this subsection will not be applicable.

(3) From subsection (d); because access to the records contained in these systems is not necessary or may impede an ongoing investigation. Most information in the records is derivative from the subject's employing agency files, and individual access will be through the employing agency's files. Additionally, other information in the records may be related to allegations against an agent or witness that are currently being investigated. Providing access to this information would impede the ongoing investigation.

(4) From subsection (e)(1); because in the interest of effective law enforcement and criminal prosecution, Giglio records will be retained because they could later be relevant in a different case; however, this relevance cannot be determined in advance.

(5) From subsection (e)(2); because the nature of the records in this system, which are used to impeach or demonstrate bias of a witness, requires that the information be collected from others.

(6) From subsections (e)(4)(G) and (H); because this system of records is exempt from individual access pursuant to subsections (j) and (k) of the Privacy Act of 1974.

(7) From subsection (e)(5); because the information in these records is not being used to make a determination about the subject of the records. According to constitutional principles of fairness articulated by the Supreme Court in United States v. Giglio, the records are required to be disclosed to criminal defendants to ensure fairness of criminal proceedings.

(8) From subsection (f); because records in this system have been exempted from the access provisions of subsection (d).

(9) From subsection (g); because records in this system are compiled for law enforcement purposes and have been exempted from the access provisions of subsections (d) and (f).

* * * * *

[FR Doc. 01-8284 Filed 4-3-01; 8:45 am]

BILLING CODE 4410-07-M